FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreements are available through the Commission's website (www.fmc.gov) or by contacting the Office of Agreements at (202) 523-5793 or tradeanalysis@fmc.gov.

Agreement No.: 201451.

Agreement Name: APL/MLL MECL-EX1 Slot Exchange Agreement.

Parties: American Presidents Line, LLC; Maersk Line, Limited.

Filing Party: Wayne Rohde; Cozen O'Connor.

Synopsis: The Agreement authorizes the parties to exchange space on the MECL and EX1 services operating in the trades between the U.S. Atlantic and Pacific Coasts on the one hand and Japan, the Republic of Korea, China, Spain, Oman, the United Arab Emirates, and India on the other hand.

Proposed Effective Date: 2/14/2025.

Location: https://www2.fmc.gov/FMC.Agreements.Web/Public/AgreementHistory/88603.

Agreement No.: 201452.

Agreement Name: Hoegh/Accordia Space Charter Agreement.

Parties: Accordia Shipping LLC; Hoegh Autoliners AS.

Filing Party: Wayne Rohde; Cozen O'Connor.

Synopsis: The Agreement authorizes the parties to charter space to/from one another on an ad hoc basis in the trades between all U.S. ports on the one hand and all non-U.S. ports worldwide on the other hand.

Proposed Effective Date: 2/19/2025.

Location: https://www2.fmc.gov/FMC.Agreements.Web/Public/AgreementHistory/88604.

Dated: February 21, 2025.
Alanna Beck,
Federal Register Alternate Liaison Officer.

[FR Doc. 2025-03119 Filed 2-25-25; 8:45 am]

BILLING CODE 6730-02-P